TREASURY DEPARTMENT

Bureau of Engraving & Printing

Senior Executive Service; Combined Performance Review Board (PRB)

AGENCY: Bureau of Engraving & Printing, Treasury Department.

ACTION: Notice of Members of Combined Performance Review Board (PRB).

SUMMARY: Pursuant to 5 U.S.C. 4314(c)(4), this notice announces the appointment of the members of the Combined Performance Review Board (PRB) for the Bureau of Engraving and Printing, the Financial Management Service, the Bureau of the Public Dept, and the United States Mint. The Board reviews the performance appraisals of career senior executives below the level of bureau head and principal deputy in the bureaus, except for executives below the Assistant Commissioner level in the Financial Management Service. The Board makes recommendations regarding proposed performance appraisals, ratings, bonuses, pay adjustments and other appropriate personnel actions.

Composition of Combined PRB

The Board shall consist of at least three voting members. In the case of an appraisal of a career appointee, more than half of the members shall consist of career appointees. The names and titles of the Combined PRB members are as follows:

Primary Members

Pamela J. Gardiner, Associate Director (Management), BEP.

Marty Griener, Associate Director/Chief Financial Officer, United States Mint.

John R. Swales, Assistant Commissioner, Office of Security Operations, BPD.

J. Martin Mills, Assistant Commissioner, Debt Management Service, FMS.

Alternate Members

Leonard Olijar, Associate Director, (Chief Financial Officer), BEP.

Debra Tomchek, Senior Advisor, Office of Workforce Solutions, United States Mint.

Glenn E. Ball, Assistant Commissioner, Office of Management Services, BPD.

Gary Grippo, Assistant Commissioner, Federal Finance, FMS.

DATES: Membership is effective on 09-30-2006.

FOR FURTHER INFORMATION CONTACT: Angie McNeal, Chief, Office of Human Resources, Bureau of Engraving & Printing, 14th & C Streets, SW., Washington, DC 20228; Telephone Number: (202) 874-2781.

Larry Felix,
Director, Bureau of Engraving & Printing.

[FR Doc. 06-7910 Filed 9-20-06; 8:45 am]

BILLING CODE 4840-01-M